OFFICE OF THE UNITED STATES TRADE REPRESENTATIVE

Special Provincial Review of Intellectual Property Rights Protection in China: Request for Further Public Comment

AGENCY: Office of the United States Trade Representative.

ACTION: Request for written submissions from the public.

SUMMARY: On June 16, 2006, USTR requested public comments concerning the locations and issues that should be the focus of a special provincial review (SPR) of intellectual property rights protection in China. In preparation for concluding this review, USTR now requests written comments from the public concerning the adequacy and effectiveness of IPR protection and enforcement at the provincial level in China.

DATES: Submissions must be received on or before 5 p.m. on Monday, February 26, 2007.

ADDRESSES: All comments should be addressed to Sybia Harrison, Special Assistant to the Section 301 Committee, and sent (i) electronically, to the following e-mail address: FR0606@ustr.eop.gov, with “China Special Provincial Review” in the subject line, or (ii) by fax, to (202) 395-9458, with a confirmation copy sent electronically to the e-mail address above.

FOR FURTHER INFORMATION CONTACT: Stanford K. McCoy, Office of Intellectual Property, at (202) 395-4510.

SUPPLEMENTARY INFORMATION: On April 28, 2006, USTR released its annual Special 301 report pursuant to Section 182 of the Trade Act of 1974, as amended by the Omnibus Trade and Competitiveness Act of 1988 and the Uruguay Round Agreements Act (enacted in 1994). In that report, USTR announced that the United States would conduct a special provincial review in the coming year to examine the adequacy and effectiveness of China's IPR protection and enforcement at the provincial level. The goal of this review is to spotlight strengths, weaknesses, and inconsistencies in and among specific jurisdictions, and to inform the Special 301 review of China as a whole.

On June 16, 2006, USTR requested initial public comments concerning the provinces and other provincial-level jurisdictions and issues that should be the focus of a special provincial review (SPR) of intellectual property rights protection in China. For purposes of this review, jurisdictions at the provincial level might include, in addition to China's provinces (sheng), the four municipalities (shi) of Beijing, Chongqing, Shanghai, and Tianjin, as well as China's five autonomous regions (zizhiqu).

Locations and Issues: Based on the comments received, USTR concluded that locations of particular interest for U.S. right holders include Beijing City, Fujian Province, Guangdong Province, Jiangsu Province, Shanghai City, and Zhejiang Province. USTR concluded that issues of particular interest involve local enforcement of IPR, including trademarks and copyrights.

Request for Further Comments: In the June 16 request for comments, USTR indicated that it would seek more detailed public comments before concluding the SPR. USTR now requests comments from the public concerning the adequacy and effectiveness of IPR protection and enforcement at the provincial level in China. USTR encourages submitters to give particular attention to the locations and issues identified above. However, USTR will accept information on other locations and issues.

Submitters should bear in mind that the goals of the SPR include highlighting strengths, as well as weaknesses and inconsistencies, in and among specific jurisdictions. Strengths could include, for example, taking ex officio action on behalf of, and providing fair treatment for, foreign right holders, or local measures that facilitate IPR enforcement.

Requirements for Comments: Comments should respond to the request in this notice.

Comments must be in English. No submissions will be accepted via postal service mail. Documents should be submitted as WordPerfect, MS Word, PDF, or text (.TXT) files. Supporting documentation submitted as spreadsheets is acceptable as Quattro Pro or Excel files. A submitter requesting that information contained in a comment be treated as confidential business information must certify that such information is business confidential and would not customarily be released to the public by the submitter. A non-confidential version of the comment must also be provided. For any document containing business confidential information, the file name of the business confidential version should begin with the characters “BC-”, and the file name of the public version should begin with the character “P-”. The “P-” or “BC-” should be followed by the name of the submitter. Submissions should not include separate cover letters; information that might appear in a cover letter should be included in the submission itself. To the extent possible, any attachments to the submission should be included in the same file as the submission itself, and not as separate files.

All comments should be addressed to Sybia Harrison, Special Assistant to the Section 301 Committee, and sent (i) electronically, to the following e-mail address: FR0606@ustr.eop.gov, with “China Special Provincial Review” in the subject line, or (ii) by fax, to (202) 395-9458, with a confirmation copy sent electronically to the e-mail address above.

Public Inspection of Submissions: Within one business day of receipt, non-confidential submissions will be placed in a public file, open for inspection at the USTR reading room, Office of the United States Trade Representative, Annex Building, 1724 F Street, NW., Room 1, Washington, DC. An appointment to review the file must be scheduled at least 48 hours in advance and may be made by calling Jacqueline Caldwell at (202) 395-6186. The USTR reading room is open to the public from 10 a.m. to 12 noon and from 1 p.m. to 4 p.m., Monday through Friday.

Victoria A. Espinel,
Assistant USTR for Intellectual Property and Innovation.

[FR Doc. E7-1022 Filed 1-23-07; 8:45 am]

BILLING CODE 3190-W7-P